FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 7, 2015.

A. Federal Reserve Bank of Atlanta (Chapelle Davis, Assistant Vice President) 1000 Peachtree Street NE., Atlanta, Georgia 30309:

1. Harbour FM, L.P., New York, New York and its general partner, the Linda S. Lucas 2015 Revocable Trust, New York, New York (Co-trustees Linda S. Lucas, Fort Myers, Florida; David H. Lucas, Fort Myers, Florida; and Edward G. Beimfohr, Bonita Springs, Florida); to join the Lucas family control group, which was previously approved on January 13, 2015; David H. Lucas, and The Amended and Restated Edward G. Beimfohr Revocable Trust (Trustee Edward G. Beimfohr); The Thomas A. Lucas Trust, dated January 27, 2015 (Trustee Thomas Lucas, Laguna Niguel, California); Michael Lucas, Las Vegas, Nevada; The Connelly Living Trust, dated March 12, 1998 (Trustee Gene Connelly, Irvine, California); and Rebecca Sanders, Fort Myers, Florida; to acquire voting shares of FineMark Holdings, Inc., and thereby indirectly acquire voting shares of FineMark National Bank & Trust, both in Fort Myers, Florida.

B. Federal Reserve Bank of Kansas City (Dennis Denney, Assistant Vice President) 1 Memorial Drive, Kansas City, Missouri 64198-0001:

1. Jennifer Whitham-Jensik, and Jessica P. Frampton, both of Fredonia, Kansas, as trustees of the Tyler F. Whitham Irrevocable Trust and the Jessica P. Frampton Irrevocable Trust, both of Garden City, Kansas, individually, to acquire additional voting shares of Whitcorp Financial Company, Leoti, Kansas, and thereby indirectly acquire additional voting shares of Western State Bank, Garden City, Kansas, and Frontier Bank, Lamar, Colorado.

Board of Governors of the Federal Reserve System, November 17, 2015.
Michael J. Lewandowski,
Associate Secretary of the Board.

[FR Doc. 2015-29679 Filed 11-19-15; 8:45 am]

BILLING CODE 6210-01-P